DEPARTMENT OF VETERANS AFFAIRS

Advisory Committee on Former Prisoners of War; Notice of Availability of Report

In compliance with section 13 of Public Law 92-463 (Federal Advisory Committee Act) notice is hereby given that a report of the Department of Veterans Affairs (VA) Advisory Committee on Former Prisoners of War has been issued. The report summarizes activities and recommendations of the Committee on matters relative to VA programs and policies affecting former prisoners of war veterans. It is available for public inspection at two locations.

Mr. Richard Yarnall, Federal Advisory Committee Desk, Library of Congress, Anglo-American Acquisition Division, Government Documents Section, Room LM-B42, 101 Independence Avenue, SE., Washington DC 20540-4172;

and

Department of Veterans Affairs, Compensation of Pension Service, Room 645F (21), 1800 G Street, NW., Washington DC 20006.

Dated: January 17, 2007.
By Direction of the Secretary.
E. Philip Riggin,
Committee Management Officer.

[FR Doc. 07-278 Filed 1-23-07; 8:45 am]

BILLING CODE 8320-01-M